DEPARTMENT OF HEALTH AND HUMAN SERVICES

Centers for Medicare & Medicaid Services

[Document Identifier CMS-10781 and CMS-216-94]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by November 15, 2021.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, you may make your request using one of following:

1. Access CMS' website address at: https://www.cms.gov/Regulations-and-Guidance/Legislation/PaperworkReductionActof1995/PRA-Listing.html.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control); Title of Information Collection: FOIA/Privacy Act Requests for Medicare Claims Data via CMS FOIA Public Portal; Use: This collection of information is dedicated to Medicare beneficiaries and third-party requesters (law firms or others) acting on behalf of beneficiaries that are making requests for CMS to produce Medicare beneficiary records through 5 U.S.C. 552(b) (See also 42 CFR 401.136). Currently the requests are mailed/faxed/emailed to CMS. The new online portal will allow for ease and efficiency to upload the request and required authorization, which will be quickly and securely sent directly to CMS. Additionally, with the new online portal, requesters will be able to securely submit requests electronically that contain PHI or PII; they will be advised that MyMedicare.gov/Blue Button is an online service available for beneficiaries to set up an account to access their own records and give authorization to share with third parties. This secure public online portal will be integrated with the agency's current FOIA/Privacy Act case management system to ensure a centralized location for housing, securing, tracking and processing the incoming requests (See 45 CFR 5.22 and 5.24). Form Number: CMS-10781 (OMB control number: 0938-New); Frequency: Occasionally; Affected Public: Individuals or Households; Number of Respondents: 19,000; Total Annual Responses: 360; Total Annual Hours: 17,160. (For policy questions regarding this collection contact Hugh Gilmore at 410-786-5352).

2. Type of Information Collection Request: Reinstatement without change of a previously approved collection; Title of Information Collection: Organ Procurement Organization Histocompatibility Laboratory Cost Report; Use: The Form CMS-216-94 cost report is needed to determine Organ Procurement Organization (OPO)/Histocompatibility Lab (HL) reasonable costs incurred in procuring and transporting organs for transplant into Medicare beneficiaries and reimbursement due to or from the provider. The reasonable costs of procuring and transporting organs cannot be determined for the fiscal year until the OPO/HL files its cost report and costs are verified by the Medicare contractor. During the fiscal year, an interim rate is established based on cost report data from the previous year. The OPO/HL bills the transplant hospital for services rendered. The transplant hospital pays interim payments, approximating reasonable cost, to the OPO/HL. The Form CMS-216-94 cost report is filed by each OPO/HL at the end of its fiscal year and there is a cost report settlement to take into account increases or decreases in costs. The cost report reconciliation and settlement take into consideration the difference between the total reasonable costs minus the total interim payments received or receivable from the transplant centers. Form Number: CMS-216-94 (OMB Control number: 0938-0102); Frequency: Annually; Affected Public: Private Sector—Business or other for-profits; Number of Respondents: 95; Total Annual Responses: 95; Total Annual Hours: 4,275 (For policy questions regarding this collection contact Luann Piccione at 410-786-5423)

Dated: October 12, 2021.
William N. Parham, III,
Director, Paperwork Reduction Staff, Office of Strategic Operations and Regulatory Affairs.

[FR Doc. 2021-22527 Filed 10-14-21; 8:45 am]

BILLING CODE 4120-01-P